FEDERAL COMMUNICATIONS COMMISSION

47 CFR Part 73

[DA 00-2238; MM Docket No. 99-278; RM-9424]

Radio Broadcasting Services; Susquehanna, PA and Conklin, NY

AGENCY: Federal Communications Commission.

ACTION: Final rule.

SUMMARY: The Commission, at the joint request of Majac of Michigan, Inc., and Equinox Broadcasting Corporation, reallots Channel 223A from Susquehanna, Pennsylvania, to Conklin, New York, and modifies Station WKGB-FM's license accordingly. We also reallot Channel 263A from Conklin, New York, to Susquehanna, Pennsylvania, and modify Station WCDW(FM)'s license accordingly. See 64 FR 51284, September 22, 1999. Channel 223A can be reallotted to Conklin in compliance with the Commission's minimum distance separation requirements at Station WKGB-FM's requested site. The coordinates for Channel 223A at Conklin are 42-06-53 North Latitude and 75-51-16 West Longitude. Additionally, Channel 263A can be reallotted to Susquehanna in compliance with the Commission's minimum distance separation requirements at Station WCDW(FM)'s requested site. The coordinates for Channel 263A at Susquehanna are 42-02-30 North Latitude and 75-41-30 West Longitude.

DATES: Effective November 13, 2000.

FOR FURTHER INFORMATION CONTACT: Sharon P. McDonald, Mass Media Bureau, (202) 418-2180.

SUPPLEMENTARY INFORMATION: This is a synopsis of the Commission's Report and Order, MM Docket No. 99-278, adopted September 20, 2000, and released September 29, 2000. The full text of this Commission decision is available for inspection and copying during normal business hours in the FCC Reference Information Center (Room CY-A257), 445 12th Street, SW., Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

Part 73 [AMENDED]

1. The authority citation for part 73 continues to read as follows:

Authority: 47 U.S.C. 54, 303, 334, 336.

§ 73.202 [Amended]

2. Section 73.202(b), the Table of FM Allotments under New York, is amended by adding Channel 223A and removing Channel 263A at Conklin.

3. Section 73.202(b), the Table of FM Allotments under Pennsylvania, is amended by adding Channel 263A and removing Channel 223A at Susquehanna.

Federal Communications Commission.
John A. Karousos,
Chief, Allocations Branch, Policy and Rules Division, Mass Media Bureau.

[FR Doc. 00-26714 Filed 10-17-00; 8:45 am]

BILLING CODE 6712-01-P